DEPARTMENT OF AGRICULTURE

Office of the Secretary

[Docket No. 2010-0004]

Privacy Act of 1974; Proposed New System of Records; Veterinary Medicine Loan Repayment Program

AGENCY: National Institute of Food and Agriculture, USDA.

ACTION: Notice of a proposed new Privacy Act system of records.

SUMMARY: In accordance with the Privacy Act of 1974, the Department of Agriculture (USDA), National Institute of Food and Agriculture (NIFA) proposes to establish a new Department of Agriculture system of records notice titled, “Veterinary Medicine Loan Repayment Program Records System, USDA/NIFA-1.” This newly established system will be included in USDA's inventory of record systems.

DATES: Submit comments on or before January 12, 2011. This new system will be effective January 12, 2011.

ADDRESSES: You may submit comments, identified by Docket No. 2010-0004 by one of the following methods: Federal eRulemaking Portal: http://www.regulations.gov. Follow the instructions for submitting comments. E-mail: vmlrp@nifa.usda.gov. Include the text “VMLRP System of Records” in the subject line of the message. Fax: (202) 401-7752. Mail: Gary Sherman; National Program Leader, Veterinary Science; National Institute of Food and Agriculture, Department of Agriculture, STOP 2200, 1400 Independence Avenue, SW., Washington, DC 20250-2200. Hand Delivery/Courier: Gary Sherman; National Program Leader, Veterinary Science; National Institute of Food and Agriculture; Department of Agriculture; Room 3146, Waterfront Centre; 800 9th Street, SW.; Washington, DC 20024. Instructions: All submissions received must include the agency name and docket number for this rulemaking. All comments received will be posted without change to http://www.regulations.gov, including any personal information provided. Docket: For access to the docket to read background documents or comments received go to http://www.regulations.gov.

FOR FURTHER INFORMATION CONTACT: For general questions, please contact: Gary Sherman, National Program Leader, Veterinary Science, National Institute of Food and Agriculture, Department of Agriculture, STOP 2220, 1400 Independence Avenue, SW., Washington, DC 20250-2220; Voice: 202-401-4952; Fax: 202-401-6156; E-mail: gsherman@nifa.usda.gov. For privacy issues, please contact: Stasia Hutchison, Freedom of Information and Privacy Act Officer, Information Staff, Agricultural Research Service, Research, Education, and Economic, Department of Agriculture, 5601 Sunnyside Avenue, STOP 5128, Beltsville, MD 20705-5128; Voice: 301-504-1655; Fax: 301-504-1647; E-mail: stasia.hutchison@ars.usda.gov.

SUPPLEMENTARY INFORMATION:

I. Background

The proposed new system of records will be used by NIFA staff to: (1) Identify and select applicants for the Veterinary Medicine Loan Repayment Program (VMLRP); (2) monitor loan repayment activities, such as payment tracking, deferment of service obligation, and default; and (3) to assist NIFA officials in the collection of overdue debts owed under the VMLRP. Records may be transferred to Administrative Billings and Collections, National Finance Center, Office of the Chief Financial Officer, USDA, for debt collection purposes when NIFA officials are unable to collect overdue debts owed under the VMLRP.

The amount of information recorded on each individual will be only that which is necessary to accomplish the needs of the program. Each record will be established initially from an application form submitted to the VMLRP by the applicant. The National Veterinary Medical Service Act (NVMSA) added section 1415A to the National Agricultural Research, Extension, and Teaching Policy Act of 1997 (NARETPA), establishing a new Veterinary Medicine Loan Repayment Program (7 U.S.C. 3151a) which authorizes the Secretary of Agriculture to carry out a program of entering into agreements with veterinarians under which they agree to provide veterinary services in veterinarian shortage situations.

Section 7105 of the Food, Conservation, and Energy Act of 2008, Public Law 110-246, (FCEA) amended section 1415A to revise the determination of veterinarian shortage situations to consider (1) geographical areas that the Secretary determines have a shortage of veterinarians; and (2) areas of veterinary practice that the Secretary determines have a shortage of veterinarians, such as food animal medicine, public health, epidemiology, and food safety. This section also added that priority should be given to agreements with veterinarians for the practice of food animal medicine in veterinarian shortage situations. NARETPA section 1415A requires the Secretary, when determining the amount of repayment for a year of service by a veterinarian, to consider the ability of USDA to maximize the number of agreements from the amounts appropriated and to provide an incentive to serve in veterinary service shortage areas with the greatest need. This section also provides that loan repayments may consist of payments of the principal and interest on government and commercial loans received by the individual for the attendance of the individual at an accredited college of veterinary medicine resulting in a degree of Doctor of Veterinary Medicine or the equivalent.

The Internal Revenue Code at 26 U.S.C. 6109 requires the applicant's Social Security number for the receipt of loan repayment funds under the VMLRP. The Federal Debt Collection Procedures Act of 1990, Public Law 101-647 (28 U.S.C. 3201) requires that an individual who has a judgment lien against his/her property for a debt to the United States shall not be eligible to receive funds directly from the Federal Government in any program, except funds to which the debtor is entitled as a beneficiary, until the judgment is paid in full or otherwise satisfied. Thus, individuals applying to the VMLRP are required to disclose in their applications whether they have a judgment lien against them arising from a debt to the United States.

The records in this system will be maintained in a secure manner compatible with their content and use. NIFA staff will be required to adhere to the provisions of the Privacy Act and the USDA Privacy Act Regulations. The System Manager will control access to the data. Only authorized users whose official duties require the use of such information will have regular access to the records in this system. Authorized users are USDA employees and contractors responsible for implementing the VMLRP. The records will be stored initially in file folders. At a later stage, records will be stored on computer tape and discs. Prior to electronic storage, a Privacy Impact Assessment will be conducted. Manual and computerized records will be maintained in accordance with USDA Departmental Regulation 3080-001, Records Management; REE P&P 251.8, Records Management; REE P&P 251.8M, Records Management (Manual); REE P&P 116.0, Freedom of Information Act and Privacy Act Guidelines; and the National Institute of Standards and Technology Federal Information Processing Standards (FIPS Pub. 41 and FIPS Pub. 31).

Data stored in computers will be accessed through the use of keywords known only to authorized users. The room where physical records (files and folders) are stored is controlled by on-site personnel and will be locked whenever the room is not in use, even during regular business hours. Security guards perform random checks on the physical security of the data after hours, including weekends and holidays.

Consistent with USDA's information sharing mission, information stored in the Veterinary Medicine Loan Repayment Program system of records may be shared with other USDA components, as well as appropriate Federal, State, local, Tribal, foreign, or international government agencies. This sharing will only take place after USDA determines that the receiving component or agency has a need to know the information to carry out national security, law enforcement, immigration, intelligence, or other functions consistent with the routine uses set forth in this system of records notice.

In accordance with the Privacy Act of 1974, the USDA proposes to establish a new USDA system of records notice titled Veterinary Medicine Loan Repayment Program, USDA/NIFA-1. This newly established system will be included in the USDA's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents.

The Privacy Act requires each agency to publish in the Federal Register a description denoting the type and character of each system of records that the agency maintains, and the routine uses that are contained in each system in order to make agency recordkeeping practices transparent, to notify individuals regarding the uses to which their records are put, and to assist individuals to more easily find such files within the agency.

Below is the description of the Veterinary Medicine Loan Repayment Program system of records, USDA/NIFA-1.

In accordance with 5 U.S.C. 552a(r), USDA has provided a report of this system of records to the Administrator, Office of Information and Regulatory Affairs, Office of Management and Budget; Chairman, Committee on Homeland Security and Governmental Affairs, United States Senate; and Chairman, Committee on Oversight and Government Reform, U.S. House of Representatives.

Signed at Washington, DC on December 6, 2010.
Thomas J. Vilsack,
Secretary of Agriculture.

System of Records:

USDA/NIFA-1

System name:

Veterinary Medicine Loan Repayment Program (VMLRP) Record System, USDA/NIFA-1

Security classification:

None.

System location:

Records are maintained at the Office of Extramural Programs, National Institute of Food and Agriculture (NIFA), Department of Agriculture (USDA), 800 9th Street, SW., Washington, DC 20024.

Categories of individuals covered by the system:

Categories of individuals covered by this system include: Individuals who have applied for, who have been approved to receive, who are receiving, or who have received funds under the Veterinary Medicine Loan Repayment Program (VMLRP); and individuals who are interested in participation in the VMLRP.

Categories of records in the system:

Categories of records in this system include: Name, address, Social Security number, program application and associated forms, service pay-back obligations, employment data, professional performance and credentialing history of licensed veterinarians; personal, professional, and demographic background information; standard school budgets; financial data including loan balances, deferment, forbearance, and repayment/delinquent/default status information; commercial credit reports; educational data including tuition and other related educational expenses; educational data including academic program and status; employment status verification (which includes certifications and verifications of continuing participation in qualified service); Federal, State and county tax related information, including copies of tax returns.

Authority for maintenance of the system:

7 U.S.C. 3151a; 26 U.S.C. 6109; 28 U.S.C. 3201

Purpose(s):

The purpose of this system is to: (1) Identify and select applicants for the VMLRP; (2) monitor loan repayment activities, such as payment tracking, deferment of service obligation, and default; and (3) assist NIFA officials in the collection of overdue debts owed under the VMLRP. Records may be transferred to “Administrative Billings and Collections, National Finance Center, Office of the Chief Financial Officer, USDA, for debt collection purposes when NIFA officials are unable to collect overdue debts owed under the VMLRP.

Routine uses of records maintained in the system, including categories of users and the purposes of such uses:

In addition to those disclosures generally permitted under 5 U.S.C. 552a(b) of the Privacy Act, all or a portion of the records or information contained in this system may be disclosed outside USDA as a routine use pursuant to 5 U.S.C. 552a(b)(3) as follows:

A. To the Department of Justice (DOJ), including United States Attorney Offices, or other Federal agency conducting litigation or in proceedings before any court, adjudicative or administrative body, when it is necessary to the litigation and one of the following is a party to the litigation or has an interest in such litigation:

1. USDA or any component thereof;

2. Any employee of USDA in his/her official capacity;

3. Any employee of USDA in his/her individual capacity where DOJ or USDA has agreed to represent the employee; or

4. The United States or any agency thereof, is a party to the litigation or has an interest in such litigation, and USDA determines that the records are both relevant and necessary to the litigation and the use of such records is compatible with the purpose for which USDA collected the records.

B. To a congressional office from the record of an individual in response to an inquiry from that congressional office made at the written request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. NIFA suspects or has confirmed that the security or confidentiality of information in the system of records has been compromised;

2. USDA has determined that as a result of the suspected or confirmed compromise there is a risk of harm to economic or property interests, identity theft or fraud, or harm to the security or integrity of this system or other systems or programs (whether maintained by USDA or another agency or entity) or harm to the individual that rely upon the compromised information; and

3. The disclosure made to such agencies, entities, and persons is reasonably necessary to assist in connection with USDA's efforts to respond to the suspected or confirmed compromise and prevent, minimize, or remedy such harm.

F. To contractors and their agents, grantees, experts, consultants, and others performing or working on a contract, service, grant, cooperative agreement, or other assignment for USDA, when necessary to accomplish an agency function related to this system of records. Individuals provided information under this routine use are subject to the same Privacy Act requirements and limitations on disclosure as are applicable to USDA officers and employees.

G. To an appropriate Federal, State, Tribal, local, international, or foreign law enforcement agency or other appropriate authority charged with investigating or prosecuting a violation or enforcing or implementing a law, rule, regulation, or order, where a record, either on its face or in conjunction with other information, indicates a violation or potential violation of law, which includes criminal, civil, or regulatory violations, whether arising by general statute or particular program statute, or by regulation, rule or order issued pursuant thereto if the information disclosed is relevant to any enforcement, regulatory, investigative, or prosecutive responsibility of the receiving entity.

H. USDA will disclose information about individuals from this system of records in accordance with the Federal Funding Accountability and Transparency Act of 2006 (Pub. L. No. 109-282; codified at 31 U.S.C. 6101, et seq.); section 204 of the E-Government Act of 2002 (Pub. L. 107-347; 44 U.S.C. 3501 note), and the Office of Federal Procurement Policy Act (41 U.S.C. 403 et seq.), or similar statutes requiring agencies to make available publicly information concerning Federal financial assistance, including grants, subgrants, loan awards, cooperative agreements and other financial assistance; and contracts, subcontracts, purchase orders, task orders, and delivery orders.

I. Disclosure may be made to the parent locator service of the Department of Health and Human Services or authorized persons defined by Public Law 93-647 under 42 U.S.C. 653 of the name and current address of record of an individual who don't pay child support.

J. NIFA may disclose information from this system of records to private parties such as present and former employers, references listed on applications and associated forms, other references and educational institutions. The purpose of such disclosures is to evaluate an individual's professional and or academic accomplishments and plans, performance, credentials, and educational background, and to determine if an applicant is suitable for participation in the VMLRP.

K. NIFA may disclose from this system of records a delinquent debtor's or a defaulting participant's name, address, Social Security number, and other information necessary to identify him/her; the amount, status, and history of the claim, and the agency or program under which the claim arose, as follows:

1. To another Federal agency so that agency can affect a salary offset for debts owed by Federal employees; if the claim arose under the Social Security Act, the employee must have agreed in writing to the salary offset.

2. To another Federal agency so that agency can affect an authorized administrative offset; i.e., withhold money, other than Federal salaries, payable to or held on behalf of the individual.

3. To the Treasury Department, Internal Revenue Service (IRS), to request an individual's current mailing address to locate him/her for purposes of either collecting or compromising a debt or to have a commercial credit report prepared.

L. NIFA may disclose information from this system of records to another agency that has asked the USDA to affect a salary or administrative offset to help collect a debt owed to the United States. Disclosure is limited to the individual's name, address, Social Security number, and other information necessary to identify the individual, information about the money payable to or held for the individual, and other information concerning the offset.

M. NIFA may disclose to the IRS information about an individual applying for the VMLRP to find out whether the applicant has a delinquent tax account. This disclosure is for the sole purpose of determining the applicant's creditworthiness and is limited to the individual's name, address, Social Security number, other information necessary to identify him/her, and the program for which the information is being obtained.

N. NIFA may report to the IRS, as taxable income, the written-off amount of a debt owed by an individual to the Federal Government when a debt becomes partly or wholly uncollectible, either because the time period for collection under statute or regulations has expired, or because the Government agrees with the individual to forgive or compromise the debt.

O. NIFA may disclose to debt collection agents, other Federal agencies, and other third parties who are authorized to collect a Federal debt, information necessary to identify a delinquent debtor or a defaulting participant. Disclosure will be limited to the individual's name, address, Social Security number, and other information necessary to identify him/her; the amount, status, and history of the claim, and the agency or program under which the claim arose.

P. NIFA may disclose information from this system of records to any third party that may have information about a delinquent debtor's or a defaulting participant's current address, such as a U.S. post office, a State motor vehicle administration, a university's office of the registrar or dean's office, a professional organization, an alumni association, etc., for the purpose of obtaining the individual's current address. This disclosure will be strictly limited to information necessary to identify the individual, without any reference to the reason for the agency's need for obtaining the current address.

Q. NIFA may disclose information from this system of records to other Federal agencies that also provide loan repayment at the request of these Federal agencies in conjunction with a matching program conducted by these Federal agencies to detect or curtail fraud and abuse in Federal loan repayment programs, and to collect delinquent loans or benefit payments owed to the Federal Government.

R. NIFA will disclose from this system of records to the Department of Treasury, IRS: (1) A delinquent debtor's or a defaulting participant's name, address, Social Security number, and other information necessary to identify the individual; (2) the amount of the debt; and (3) the program under which the debt arose, so that the IRS can offset against the debt any income tax refunds which may be due to the individual.

S. NIFA may disclose information provided by a lender or educational institution to other Federal agencies, debt collection agents, and other third parties who are authorized to collect a Federal debt. The purpose of this disclosure is to identify an individual who is delinquent in loan or benefit payments owed to the Federal Government and the nature of the debt.

T. NIFA may disclose records to USDA contractors and subcontractors for the purpose of recruiting, screening, and matching veterinarians for employment in qualified shortage area positions under the VMLRP. In addition, USDA contractors and subcontractors:

1. May disclose biographic data and information supplied by potential applicants

(a) to references listed on application and associated forms for the purpose of evaluating the applicant's professional qualifications, experience, and suitability, and

(b) to a State or local government medical licensing board and/or to the Federation of State Medical Boards or a similar nongovernmental entity for the purpose of verifying that all claimed background and employment data are valid and all claimed credentials are current and in good standing;

2. May disclose biographic data and information supplied by references listed on application and associated forms to other references for the purpose of inquiring into the applicant's professional qualifications and suitability; and

3. May disclose professional suitability evaluation information to NIFA officials for the purpose of appraising the applicant's professional qualifications and suitability for participation in the VMLRP.

Contractors maintain, and are also required to ensure that subcontractors maintain, Privacy Act safeguards with respect to such records.

Disclosure to consumer reporting agencies:

Disclosure pursuant to 5 U.S.C. 552a(b)(12): Disclosures may be made from this system to “consumer reporting agencies” as defined in the Federal Claims Collection Act of 1966, as amended (31 U.S.C. 3701(a)(3)). The purposes of these disclosures are: (1) To provide an incentive for debtors to repay delinquent debts to the Federal Government by making these debts part of their credit records, and (2) to enable NIFA to improve the quality of loan repayment decisions by taking into account the financial reliability of applicants, including obtaining a commercial credit report to assess and verify the ability of an individual to repay debts owed to the Federal Government. Disclosure of records will be limited to the individual's name, Social Security number, and other information necessary to establish the identity of the individual, the amount, status, and history of the claim, and the agency or program under which the claim arose.

Policies and practices for storing, retrieving, accessing, retaining, and disposing of records in the system:

Storage:

Records in this system are stored electronically or on paper in secure facilities. The records are stored in file folders and electronic media, including computer tape, discs, servers, connected to local area networks, and Internet servers.

Retrievability:

Records may be retrieved by name, Social Security number, or other identifying numbers or characteristics.

Safeguards:

Records in this system are safeguarded in accordance with applicable rules and policies, including all applicable USDA automated systems security and access policies. Strict controls have been imposed to minimize the risk of compromising the information that is being stored. Access to the computer system containing the records in this system is limited to those individuals who have a need to know the information for the performance of their official duties and who have appropriate clearances or permissions. Physical records (files and folders) are stored in an enclosed office that is controlled by on-site personnel and will be locked whenever the room is not in use, even during regular business hours. Security guards perform random checks on the physical security of the data after hours, including weekends and holidays. A password is required to access the terminal and a data set name controls the release of data to only authorized users. Data on local area network computer files is accessed by keyword known only to authorized personnel.

Retention and disposal:

Records are retained and disposed of under the authority of the REE Policies and Procedures contained in REE Manual 251.8 “Records Management” and 251.8M “Records Management (Manual)”, which establishes REE policies and procedures for the creation, maintenance, and disposition of records, and in accordance with the General Records Schedules issued by the National Archives and Records Administration.

System manager(s) and address(es):

National Program Leader, Veterinary Science, National Institute of Food and Agriculture, Department of Agriculture, 1400 Independence Avenue, SW., Washington, DC 20250.

Notification procedure:

Individuals seeking notification of and access to any record contained in this system of records, or seeking to contest its content, may submit a request in writing to the Headquarters or component's Freedom of Information Act (FOIA) Officer, whose contact information can be found at http://www.da.usda.gov/foia.htm under “contacts.” If an individual believes more than one component maintains Privacy Act records concerning him or her, the individual may submit the request to the Chief FOIA Officer, Department of Agriculture, 1400 Independence Avenue, SW., Washington, DC 20250.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief FOIA Officer, Department of Agriculture, 1400 Independence Avenue, SW., Washington, DC 20250. In addition you should provide the following:

• An explanation of why you believe the Department would have information on you;

• Identify the component(s) of the Department you believe may have the information about you;

• Specify when you believe the records would have been created;

• Any additional information that will help the FOIA staff determine which USDA component agency may have responsive records;

• The dates of enrollment in the VMLRP and current enrollment status, such as pending application approval or approved for participation;

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record source categories:

Records are obtained by subject individual; participating lending and loan servicing institutions; educational and grantee institutions; other Federal agencies; consumer reporting agencies/credit bureaus; National Student Clearinghouse; and third parties that provide references concerning the subject individual.

Exemptions claimed for the system:

None.

[FR Doc. 2010-31205 Filed 12-10-10; 8:45 am]

BILLING CODE 3410-22-P